COMMODITY FUTURES TRADING COMMISSION

Agricultural Advisory Committee

AGENCY: Commodity Futures Trading Commission.

ACTION: Notice of meeting.

SUMMARY: The Commodity Futures Trading Commission (CFTC) announces that on December 14, 2023, from 9 a.m. to 12 p.m. (Eastern Standard Time), the Agricultural Advisory Committee (AAC or Committee) will hold an in-person public meeting at the CFTC's Washington, DC headquarters with options for the public to attend virtually. At this meeting, the AAC will discuss topics related to the agricultural economy, including geopolitical and sustainability issues, as well as recent developments in the agricultural derivatives markets.

DATES: The meeting will be held on December 14, 2023, from 9 a.m. to 12 p.m. (Eastern Standard Time). Members of the public who wish to submit written statements in connection with the meeting should submit them by December 21, 2023.

ADDRESSES: The meeting will take place in the Conference Center at the CFTC's headquarters, Three Lafayette Centre, 1155 21st Street NW, Washington, DC 20581. You may submit public comments, identified by “Agricultural Advisory Committee,” through the CFTC website at https://comments.cftc.gov. Follow the instructions for submitting comments through the Comments Online process on the website. If you are unable to submit comments online, contact Swati Shah, Designated Federal Officer, via the contact information listed below to discuss alternate means of submitting your comments. Any statements submitted in connection with the committee meeting will be made available to the public, including publication on the CFTC website, https://www.cftc.gov.

FOR FURTHER INFORMATION CONTACT: Swati Shah, AAC Designated Federal Officer, Commodity Futures Trading Commission, Three Lafayette Centre, 1155 21st Street NW, Washington, DC; (202) 418-5042; or aac@cftc.gov.

SUPPLEMENTARY INFORMATION: The meeting will be open to the public with seating on a first-come, first-served basis. Members of the public may also listen to the meeting by telephone by calling a domestic or international toll or toll-free number to connect to a live, listen-only audio feed. Call-in participants should be prepared to provide their first name, last name, and affiliation.

Domestic Toll-Free Numbers: 833-568-8864 or 833-435-1820.

Domestic Toll Numbers: 1-669-254-5252 or 1-646-964 1167 or 1-646-828-7666 or 1-669-216-1590 or 1-415-449-4000 or 1-551-285-1373.

International Toll- and Toll-Free Numbers: Will be posted on the CFTC's website, https://www.cftc.gov, on the page for the meeting, under Related Links.

Call-In/Webinar ID: 161 858 6497.

Pass Code/Pin Code: 018414.

Members of the public may also view a live webcast of the meeting via the https://www.cftc.gov website. The meeting agenda may change to accommodate other Committee priorities. For agenda updates, please visit https://www.cftc.gov/About/AdvisoryCommittees/AAC.

After the meeting, a transcript of the meeting will be published through a link on the CFTC's website, https://www.cftc.gov. Persons requiring special accommodations to attend the meeting because of a disability should notify the contact person above.

(Authority: 5 U.S.C. 1009(a)(2).)

Dated: November 16, 2023.
Robert Sidman,
Deputy Secretary of the Commission.

[FR Doc. 2023-25748 Filed 11-20-23; 8:45 am]

BILLING CODE 6351-01-P